DEPARTMENT OF TRANSPORTATION

Federal Highway Administration

Environmental Impact Statement: Alamance County, NC

AGENCY: Federal Highway Administration (FHWA), DOT.

ACTION: None of Intent.

SUMMARY: The FHWA is issuing this notice to advise the public that an environmental impact statement will be prepared for the relocation of highway NC 119 in Mebane, Alamance County, North Carolina (TIP Project U-3109).

FOR FURTHER INFORMATION CONTACT: Mr. Clarence Coleman, PE, Operations Engineer, Federal Highway Administration, 310 New Bern Avenue, Suite 410, Raleigh, North Carolina 27601, Telephone: (919) 856-4350, Extension 133.

SUPPLEMENTARY INFORMATION: The FHWA, in cooperation with the North Caroline Department of Transportation (NCDOT), will prepare an environment impact statement (EIS) on the relocation of NC 119 in Mebane, Alamance County. The proposed action would be the construction of a multi-lane divided facility on new location from the I-85 interchange southwest of Mebane to existing NC 119 near SR 1918 (Mrs. White Lane) north of Mebane. Full control of access is proposed at the I-85 interchange and limited or partial control of access (access only at existing secondary roads [SRs]) is proposed for the remainder of the project. The purpose of this project is to relieve traffic congestion in the downtown area, provide access to the local area, and provide Alamance County with a primary north/south route. The proposed action is consistent with the 2030 Long Range Transportation Plan for Burlington-Graham Metropolitan Planning Organization last updated in May 2005. The proposed action is also consistent with the Burlington-Graham Urbanized Area Transportation Plan (which the Thoroughfare Plan map is a part of) last updated in January 2004. Alternatives under consideration include: (1) The “no-build”, (2) improving existing facility, and (3) three limited controlled access highways on new location. Letters describing the proposed action and soliciting comments were sent to appropriate Federal, State, and local agencies. A public meeting and meetings with local officials and neighborhood groups were and will continue to be held in the project study area. A public hearing will also be held. Information on the time and place of the public hearing will be provided in the local news media. The draft EIS will be available for public and agency review and comment at the time of the hearing. A formal scoping meeting was held on February 15, 1994.

A result of the scoping meeting, as well as a meeting held with local officials, was an environmental study area comprised of several potential alignment corridors for the relocation of NC 119. The project study area developed from the initial project scoping process was presented to the public at two Citizens Informational Workshops, at which time public input on this study area was received. In addition, NCDOT held several small group meetings with representatives from the various communities in the project study area as a way to gain additional input from residents and identify ways to minimize community impacts. In early 1997, the majority of the supporting documentation for the Environmental Assessment (EA) was completed and at that time, the EA was anticipated to be completed in mid 1997.

In March 1997, NCDOT held a meeting where local residents suggested an eastern route for the relocation of NC 119. Over the course of the next year, NCDOT studied various alternatives that would relocate NC 119 to the east side of Mebane. During this process, NCDOT conducted several meetings with agency representatives, as well as residents from the various communities surrounding the project study area, to discuss concerns regarding the proposed relocation of NC 119. Several project newsletters were mailed to the area residents and project stake holders providing updated information about the project and showing the location of the NC 119 Relocation alternatives being considered. In July 2003, another Citizens Informational Workshop was held by NCDOT, showing the detailed study alternatives to the public and seeking public input. Afterwards, the NCDOT decided that an Environmental Impact Statement would be prepared for this project instead of the EA.

In 2004, the NCDOT hired the Wills Duncan Group to manage a community facilitation program for the NC 119 Relocation project. The intent of this program was to increase citizen involvement and identify the most important issues regarding the proposed project from the perspective of the various communities within the study area. A series of community charettes were conducted by the Wills Duncan Group as part of this program and the result was the formation of the NC 119 Relocation Steering Committee; a diverse group of citizens representing the neighborhoods and the business community of the Greater Mebane area. The primary responsibility of this Steering Committee was to assist in increasing citizen participation in the transportation decision making process and to identify the most important issues regarding the project from the perspective of the local communities. Due to extensive coordination with the resource agencies, local officials, and the public during the EA and EIS process for the NC 119 Relocation project, no additional scoping meetings will be conducted for the DEIS.

To ensure that the full range of issues related to the proposed action is addressed and all significant issues are identified, comments and suggestions are invited from all interested parties. Comments and questions concerning the proposed action should be directed to the FHWA at the address provided above.

(Catalog of Federal Domestic Assistance Program Number 20.205, Highway Research Planning and Construction. The regulations implementing Executive Order 12372 regarding intergovernmental consultation on Federal programs and activities apply to this program.)
Issued on: February 6, 2007.
Clarence W. Coleman,
Operations Engineer, Raleigh, North Carolina.

[FR Doc. 07-615 Filed 2-12-07: 8:45 am]

BILLING CODE 4910-22-M